DEPARTMENT OF ENERGY

Federal Energy Regulatory Commission

[Docket No. PF04-6-000]

Questar Pipeline Company; Notice of Intent To Prepare an Environmental Assessment for Questar's Proposed Southern System Expansion Project and Request for Comments on Environmental Issues

February 27, 2004.

The staff of the Federal Energy Regulatory Commission (FERC or Commission) will prepare an environmental assessment (EA) that will discuss the environmental impacts of Questar Pipeline Company's (Questar) proposed Southern System Expansion Project. This notice announces the opening of the scoping process we ¹ will use to gather input from the public and interested agencies on the project. Your input will help us determine which issues need to be evaluated in the EA. The Commission will use the EA in its decisionmaking process to determine whether to authorize the project. Please note that the scoping period will close on April 7, 2004.

¹ “We,” “us,” and “our” refer to the environmental staff of the FERC's Office of Energy Projects.

The FERC will be the lead Federal agency in the preparation of the EA which will satisfy the requirements of the National Environmental Policy Act (NEPA). The Southern System Expansion Project is in the preliminary design stage. At this time no formal application has been filed with the FERC. For this project, the FERC staff is initiating its NEPA review prior to receiving the application. The purpose of our NEPA Pre-Filing Process is to involve interested stakeholders early in project planning and to identify and resolve issues before an application is filed with the FERC. A docket number (PF04-6-000) has been established to place information filed by Questar, and related documents issued by the Commission, into the public record.² Once a formal application is filed with the FERC, a new docket number will be established.

² To view information in the docket, follow the instructions for using the eLibrary link at the end of this notice.

This notice is being sent to landowners; Federal, State, and local government agencies; Indian tribes; elected officials; environmental and public interest groups; and local libraries and newspapers. We encourage government representatives to notify their constituents of this planned project and encourage them to comment on their areas of concern. With this notice, we are asking Federal, State, and local agencies with jurisdiction and/or special expertise with respect to environmental issues to formally cooperate with us in the preparation of the EA. Agencies that would like to request cooperating status should send a letter describing the extent to which they want to be involved. Follow the instructions for filing comments provided below.

Some affected landowners may be contacted by a project representative about the acquisition of an easement to construct, operate, and maintain the proposed facilities. If they are, the company would seek to negotiate a mutually acceptable agreement. However, if the project is certificated by the Commission, that approval conveys the right of eminent domain for securing easements for the pipeline. Therefore, if easement negotiations fail to produce an agreement, the company could initiate condemnation proceedings in accordance with State law.

Summary of the Proposed Project

Questar proposes to expand its natural gas system to add an additional 102,000 dekatherms per day of firm transportation capacity. More specifically, Questar requests Commission authorization to:

• Construct and operate approximately 18.4 miles of 24-inch-diameter pipeline near the city of Price in Carbon County, Utah. Approximately nine miles of the proposed pipeline would loop ³ Questar's existing Main Line (M.L.) No. 40 and the remaining nine miles would follow other existing utility rights-of-way;

³ A pipeline “loop” is a segment of pipe installed adjacent to an existing pipeline and connected to the existing pipeline at both ends. A loop increases the amount of gas that can move through that portion of the system.

• Construct and operate two new compressor stations. The Water Canyon Compressor Station, with approximately 9,400 nominal horsepower (hp) of compression, would be constructed adjacent to Questar's M.L. No. 40 in Duchesne County, Utah. The Thistle Creek Compressor Station, with approximately 5,800 nominal hp of compression, would be constructed adjacent to Questar's M.L. No. 41 in Utah County, Utah; and

• Modifications within the existing fenced yards of Questar's Oak Spring Compressor Station located in Carbon County, Utah and the Greasewood Compressor Station located in Rio Blanco County, Colorado.

A map depicting the proposed pipeline route and compressor stations is provided in appendix 1.⁴

⁴ The appendices referenced in this notice are not being printed in the Federal Register. Copies are available on the Commission's Internet Web site http://www.ferc.gov at the “eLibrary” link or from the Commission's Public Reference and Files Maintenance Branch at 202.502.8371. For instructions on connecting to eLibrary, refer to the end of this notice. Copies of the appendices were sent to all those receiving this notice in the mail.

Questar proposes to place the project in service by October 2005. To achieve this in-service date, Questar intends to request approval to begin construction of the pipeline facilities in May 2005.

The EA Process

NEPA requires the Commission to take into account the environmental impacts that could result from an action whenever it considers the issuance of a Certificate of Public Convenience and Necessity. NEPA also requires us to discover and address issues and concerns the public may have about proposals. This process is referred to as “scoping”. The main goal of the scoping process is to focus the analysis in the EA on the important environmental issues and reasonable alternatives. By this notice, we are requesting agency and public comments on the scope of the issues to be analyzed and presented in the EA. All scoping comments received will be considered during the preparation of the EA. To ensure your comments are considered, please carefully follow the instructions in the public participation section of this notice.

Our independent analysis of the issues will be included in an EA. The EA will be mailed to Federal, State, and local government agencies; Indian tribes; elected officials; environmental and public interest groups; affected landowners; other interested parties; local libraries and newspapers; and the Commission's official service list for this proceeding. Depending on the response to this notice and the nature of issues raised during the review process, a 30-day comment period may be allotted for review of the EA. We will consider all comments on the EA before we make our recommendations to the Commission.

Public Participation

You can make a difference by providing us with your specific comments or concerns about the project. You should focus on the potential environmental effects of the proposal, reasonable alternatives (including alternative compressor station sites and pipeline routes), and measures to avoid or lessen environmental impact. The more specific your comments, the more useful they will be. By becoming a commentor, your concerns will be addressed in the EA and considered by the Commission. To ensure that your comments are timely and properly recorded, please mail your comments so that they will be received in Washington, DC on or before April 7, 2004, and carefully follow these instructions:

• Send an original and two copies of your letter to:

Magalie R. Salas, Secretary,

Federal Energy Regulatory Commission,

888 First St., NE., Room 1A,

Washington, DC 20426;

• Label one copy of your comments for the attention of Gas Branch 3, DG2E; and

• Reference Docket No. PF04-6-000 on the original and both copies.

Please note that we are continuing to experience delays in mail deliveries from the U.S. Postal Service. Therefore, the Commission encourages electronic filing of comments. See 18 CFR 385.2001(a)(1)(iii) and the instructions on the Commission's Internet Web site at http://www.ferc.gov under the “e-Filing” link and the link to the User's Guide. Prepare your submission in the same manner as you would if filing on paper and save it to a file on your hard drive. Before you can file comments you will need to create a free account by clicking on “Login to File” and then “New User Account.” You will be asked to select the type of filing you are making. This filing is considered a “Comment on Filing.”

Intervention

When Questar files its application for authorization to construct the proposed pipeline, the Commission will publish notice of the application in the Federal Register and establish a deadline for interested persons to intervene in the proceeding. Because the NEPA Pre-Filing Process occurs before an application to begin a proceeding is officially filed, petitions to intervene during this process are premature and will not be accepted by the Commission. You do not need intervenor status to have your environmental comments considered.

Availability of Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at ferconlinesupport@ferc.gov. The eLibrary link on the FERC Internet Web site also provides access to the texts of formal documents issued by the Commission, such as orders, notices, and rulemakings.

A fact sheet prepared by the FERC entitled “An Interstate Natural Gas Facility on My Land? What Do I Need To Know?” is also available for viewing on the FERC Internet website. This fact sheet addresses a number of typically asked questions, including the use of eminent domain and how to participate in the Commission's proceedings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Information about the project is also available from Questar. Questar has established a single point of contact for the project. The contact is Mr. David Ingleby, Supervisor, Property and Right-of-Way, and can be reached by phone at 1-800-366-8532 or e-mail at David.Ingleby@Questar.com. You may also access Questar's Southern System Expansion Project Web site at www.questarssxp.com.

Linda Mitry,
Acting Secretary.

[FR Doc. E4-459 Filed 3-3-04; 8:45 am]

BILLING CODE 6717-01-P